DEPARTMENT OF AGRICULTURE

Forest Service

Notice of Modoc County RAC Meetings.

AGENCY: Forest Service, USDA.

SUMMARY: Pursuant to the authorities in the Federal Advisory Committees Act (Public Law 92-463) and under the Secure Rural Schools and Community Self-Determination Act of 2000 (Public Law 106-393), the Modoc National Forest's Modoc County Resource Advisory Committee will meet Monday, February 10 and Monday March 10, 2003, in Alturas, California for each business meeting. The meetings are open to the public.

SUPPLEMENTARY INFORMATION: The business meeting February 10 begins at 4 p.m. at the Modoc National Forest Office, Conference Room, 800 West 12th St., Alturas. Agenda topics will include approval of November 13 and January 8 minutes, reports from subcommittees, hear a status report on 2002 and 2003 projects, and discuss community outreach for projects for fiscal year 2004 that will improve the maintenance of existing infrastructure, implement stewardship objectives that enhance forest ecosystems, provide economic benefits and restore and improve health and water quality that meet the intent of Public Law 106-393. A roll call vote will be taken on three projects. Time will also be set aside for public comments at the beginning of the meeting.

The business meeting March 10 begins at 4 p.m. at the Modoc National Forest Office, Conference Room, 800 West 12th St., Alturas. Agenda topics will include approval of February 10 minutes, reports from subcommittees, and discuss progress of community outreach for fiscal year 2004 projects. Time will also be set aside for public comments at the beginning of the meeting.

FOR FURTHER INFORMATION CONTACT: Forest Supervisor Stan Sylva, at (530) 233-8700; or Public Affairs Officer Nancy Gardner at (530) 233-8713.

Nancy Gardner,
Acting Forest Supervisor.

[FR Doc. 03-1018 Filed 1-15-03; 8:45 am]

BILLING CODE 3410-11-P